DEPARTMENT OF TRANSPORTATION

Federal Aviation Administration

14 CFR Part 39

[Docket No. FAA-2011-0223; Directorate Identifier 2010-NM-161-AD; Amendment 39-17006; AD 2012-06-25]

RIN 2120-AA64

Airworthiness Directives; Goodrich Evacuation Systems Approved Under Technical Standard Order (TSO) TSO-C69b and Installed on Airbus Airplanes

AGENCY: Federal Aviation Administration (FAA), DOT.

ACTION: Final rule.

SUMMARY: We are superseding an existing airworthiness directive (AD) for Goodrich Evacuation Systems approved under TSO TSO-C69b and installed on Model A330-200 and -300 series airplanes, Model A340-200 and -300 series airplanes, and Model A340-500 and -600 series airplanes. That AD currently requires inspecting to determine the part number of the pressure relief valves on the affected Goodrich evacuation systems, and corrective action if necessary. This new AD requires inspecting to determine the part number of the pressure relief valves on the affected Goodrich evacuation systems and replacing certain pressure relief valves, and adds airplanes to the applicability. This AD was prompted by reports that during workshop testing, certain pressure relief valves, which were required by the existing AD, did not seal and allowed the pressure in certain slides/rafts to fall below the minimum raft mode pressure for the unit. We are issuing this AD to prevent loss of pressure in the escape slides/rafts after an emergency evacuation, which could result in inadequate buoyancy to support the raft's passenger capacity during ditching and increase the chance for injury to raft passengers.

DATES: This AD is effective May 4, 2012.

The Director of the Federal Register approved the incorporation by reference of certain publications listed in the AD as of May 4, 2012.

ADDRESSES: For service information identified in this AD, contact Goodrich Corporation, Aircraft Interior Products, ATTN: Technical Publications, 3414 South Fifth Street, Phoenix, Arizona 85040; phone: 602-243-2270; email: george.yribarren@goodrich.com; Internet: http://www.goodrich.com/TechPubs. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Tracy Ton, Aerospace Engineer, Cabin Safety/Mechanical and Environmental Systems Branch, ANM-150L, FAA, Los Angeles Aircraft Certification Office, 3960 Paramount Boulevard, Lakewood, California 90712-4137; phone: 562-627-5352; fax: 562-627-5210; email: Tracy.Ton@faa.gov.

SUPPLEMENTARY INFORMATION:

Discussion

We issued a supplemental notice of proposed rulemaking (SNPRM) to amend 14 CFR part 39 to supersede AD 2007-23-01, Amendment 39-15247 (72 FR 62568, November 6, 2007). That AD applies to the specified products. The SNPRM was published in the Federal Register on December 29, 2011 (76 FR 81885). The original NPRM (76 FR 15229, March 21, 2011) proposed to require inspecting to determine the part number of the pressure relief valves on the affected Goodrich evacuation systems and replacing certain pressure relief valves. The original NPRM also added Model A330-223F and -243F airplanes to the applicability. The SNPRM proposed to add Model A330-302 and -303 airplanes to the applicability.

Comments

We gave the public the opportunity to participate in developing this AD. We received no comments on the SNPRM (76 FR 81885, December 29, 2011) or on the determination of the cost to the public.

Conclusion

We reviewed the relevant data and determined that air safety and the public interest require adopting the AD as proposed.

Costs of Compliance

We estimate that this AD affects 41 airplanes of U.S. registry.

We estimate the following costs to comply with this AD:

Estimated Costs
Action | Labor cost | Parts cost | Cost per product | Cost on U.S. operators
Inspection to determine part numbers | 1 work-hour × $85 per hour = $85 | $0 | $85 | $3,485

We estimate the following costs to do any necessary replacements that would be required based on the results of the inspection. We have no way of determining the number of aircraft that might need these replacements.

On-Condition Costs
Action | Labor cost | Parts cost | Cost per product
Valve replacement | 1 work-hour × $85 per hour = $85 | $775 | $860 per slide.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2007-23-01, Amendment 39-15247 (72 FR 62568, November 6, 2007), and adding the following new AD:

2012-06-25 Goodrich (Formerly BF Goodrich): Amendment 39-17006; Docket No. FAA-2011-0223; Directorate Identifier 2010-NM-161-AD.

(a) Effective Date

This airworthiness directive (AD) is effective May 4, 2012.

(b) Affected ADs

This AD supersedes AD 2007-23-01, Amendment 39-15247 (72 FR 62568, November 6, 2007).

(c) Applicability

This AD applies to Goodrich evacuation systems approved under Technical Standard Order (TSO) TSO-C69b, as installed on the Airbus airplanes, certificated in any category, identified in paragraphs (c)(1), (c)(2), and (c)(3) of this AD.

(1) Model A330-201, -202, -203, -223, -243, -301, -302, -303, -321, -322, -323, -341, -342, -343, -223F, and -243F airplanes, as identified in Goodrich Service Bulletin 7A1508/09/10/39-25-373, Revision 3, dated March 30, 2011.

(2) Model A340-211, -212, -213, -311, -312, and -313 airplanes, as identified in Goodrich Service Bulletin 7A1508/09/10/39-25-373, Revision 3, dated March 30, 2011.

(3) Model A340-541 and -642 airplanes, as identified in Goodrich Service Bulletins 7A1508/09/10/39-25-373, Revision 3, dated March 30, 2011; and 4A3928/4A3934-25-374, Revision 2, dated March 30, 2011.

(d) Subject

Joint Aircraft System Component (JASC)/Air Transport Association (ATA) of America Code 2560, Emergency Equipment.

(e) Unsafe Condition

This AD was prompted by reports that during workshop testing, certain pressure relief valves did not seal and allowed the pressure in certain slides/rafts to fall below the minimum raft mode pressure for the unit. We are issuing this AD to prevent loss of pressure in the escape slides/rafts after an emergency evacuation, which could result in inadequate buoyancy to support the raft's passenger capacity during ditching and increase the chance for injury to raft passengers.

(f) Compliance

Comply with this AD within the compliance times specified, unless already done.

(g) Inspection

Within 36 months after the effective date of this AD, inspect the evacuation systems to determine whether any pressure relief valve having part number (P/N) 4A3641-1, 4A3791-3, 4A3641-26, or 4A3791-6 is installed. A review of airplane maintenance records or the system identification placard on the girt is acceptable in lieu of this inspection if the part number of the pressure relief valve can be conclusively determined from that review.

(h) Part Replacement

If any valve having P/N 4A3641-1, 4A3791-3, 4A3641-26, or 4A3791-6 is identified during the inspection or review specified in paragraph (g) of this AD: Before further flight, do the applicable actions required by paragraphs (h)(1) and (h)(2) of this AD:

(1) Replace all pressure relief valves having P/Ns 4A3641-1 and 4A3791-3 with pressure relief valves having P/N 115815-1, and mark the system identification placard on the girt, in accordance with the Accomplishment Instructions of Goodrich Service Bulletin 7A1508/09/10/39-25-373, Revision 3, dated March 30, 2011.

(2) Replace all pressure relief valves having P/Ns 4A3641-26 and 4A3791-6 with pressure relief valves having P/N 115815-1 (for evacuation systems having P/N 4A3934 series units) or 115815-2 (for evacuation systems having P/N 4A3928 series units); and mark the system identification placard on the girt; in accordance with the Accomplishment Instructions of Goodrich Service Bulletin 4A3928/4A3934-25-374, Revision 2, dated March 30, 2011.

(i) Parts Installation

As of the effective date of this AD, no person may install a pressure relief valve having P/N 4A3641-1, 4A3791-3, 4A3641-26, or 4A3791-6 in the evacuation system on any airplane.

(j) Credit for Previous Actions

This paragraph provides credit for actions required by paragraphs (g) and (h) of this AD, if those actions were performed before the effective date of this AD using Goodrich Service Bulletin 7A1508/09/10/39-25-373, dated March 31, 2008, Goodrich Service Bulletin 7A1508/09/10/39-25-373, Revision 1, dated August 1, 2008, or Goodrich Service Bulletin 7A1508/09/10/39-25-373, Revision 2, dated May 8, 2009; or Goodrich Service Bulletin 4A3928/4A3934-25-374, dated July 18, 2008, or Goodrich Service Bulletin 4A3928/4A3934-25-374, Revision 1, dated May 8, 2009; as applicable.

(k) Alternative Methods of Compliance (AMOCs)

(1) The Manager, Los Angeles Aircraft Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(l) Related Information

For more information about this AD, contact Tracy Ton, Aerospace Engineer, Cabin Safety/Mechanical and Environmental Systems Branch, ANM-150L, FAA, Los Angeles Aircraft Certification Office, 3960 Paramount Boulevard, Lakewood, California 90712-4137; phone: 562-627-5352; fax: 562-627-5210; email: Tracy.Ton@faa.gov.

(m) Material Incorporated by Reference

(1) You must use the following service information to do the actions required by this AD, unless the AD specifies otherwise. The Director of the Federal Register approved the incorporation by reference (IBR) of the following service information under 5 U.S.C. 552(a) and 1 CFR part 51:

(i) Goodrich Service Bulletin 7A1508/09/10/39-25-373, Revision 3, dated March 30, 2011.

(ii) Goodrich Service Bulletin 4A3928/4A3934-25-374, Revision 2, dated March 30, 2011.

(2) For service information identified in this AD, contact Goodrich Corporation, Aircraft Interior Products, ATTN: Technical Publications, 3414 South Fifth Street, Phoenix, Arizona 85040; phone: 602-243-2270; email: george.yribarren@goodrich.com; Internet: http://www.goodrich.com/TechPubs.

(3) You may review copies of the referenced service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal-register/cfr/ibr_locations.html.

Issued in Renton, Washington, on March 19, 2012.
Ali Bahrami,
Manager, Transport Airplane Directorate, Aircraft Certification Service.

[FR Doc. 2012-7409 Filed 3-29-12; 8:45 am]

BILLING CODE 4910-13-P